DEPARTMENT OF TRANSPORTATION

Surface Transportation Board

[Docket No. FD 35710]

Heart of Texas Railroad, L.P.—Acquisition and Operation Exemption—Gulf Colorado & San Saba Railway Company

Heart of Texas Railroad, L.P. (the Company), a noncarrier, has filed a verified notice of exemption under 49 CFR 1150.31 to acquire from Gulf Colorado & San Saba Railway Company (the Seller), and to operate, approximately 67.5 miles of rail line between milepost 0.0 at Lometa, and milepost 67.5 at Brady, in Lampasas, Mills, San Saba and McCullouch Counties, Tex. (the Line).¹

¹ According to the Company, on July 3, 2012, the Seller filed a voluntary Chapter 11 bankruptcy petition, and, on July 31, 2012, Ronald Hornberger was appointed the Chapter 11 Trustee of the Seller's bankruptcy estate. The Company states that, pursuant to a purchase agreement dated December 17, 2012, it has agreed to acquire Seller's interest in this line of railroad.

The Company states that the agreement between the Company and the Seller does not involve any provision or agreement that would limit future interchange with a third-party connecting carrier.

The transaction is expected to be consummated on or about January 28, 2013. The earliest this transaction can be consummated is January 20, 2013, the effective date of the exemption.

The Company certifies that its projected annual revenues as a result of this transaction will not exceed those that would qualify it a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than January 14, 2012 (at least 7 days before the exemption becomes effective).

An original and 10 copies of all pleadings, referring to Docket No. FD 35710, must be filed with the Surface Transportation Board, 395 E Street SW., Washington, DC 20423-0001. In addition, a copy of each pleading must be served on Rose-Michele Nardi, Transport Counsel PC, 1701 Pennsylvania Ave. NW., Suite 300, Washington, DC 20006.

Board decisions and notices are available on our Web site at www.stb.dot.gov.

By the Board.
Decided: January 2, 2013.
Rachel D. Campbell,
Director, Office of Proceedings.
Jeffrey Herzig,
Clearance Clerk.

[FR Doc. 2013-00044 Filed 1-3-13; 8:45 am]

BILLING CODE 4915-01-P